DEPARTMENT OF ENERGY

Federal Energy Regulatory Commission

Notice of Filing

| Docket Nos.
Louisiana Public Service Commission v. Entergy Corporation, Entergy Services, Inc., Entergy Louisiana, LLC, Entergy Arkansas, Inc., Entergy Mississippi, Inc., Entergy New Orleans, Inc., Entergy Gulf States of Louisiana, L.L.C., Entergy Texas, Inc., Entergy Services, Inc | EL10-65-008, ER14-2085-004, ER11-3658-004, ER12-1920-004, ER13-1595-004 (Consolidated)

On June 18, 2020, Entergy Services, LLC,¹ acting as agent for Entergy Operating Companies ² filed a compliance filing consisting of the bandwidth formula rate recalculations with true-up payments and receipts based on 2010, 2011, and 2012 test year data and supporting workpapers for the identified adjustment, pursuant to the Federal Energy Regulatory Commission's (Commission) Order issued April 16, 2020.³

¹ Effective September 30, 2018, Entergy Services, Inc., changed its name to Entergy Services, LLC.

² The Entergy Operating Companies (Operating Companies) are currently Entergy Arkansas, LLC (formerly Entergy Arkansas, Inc.), Entergy Louisiana, LLC, Entergy Mississippi, LLC (formerly Entergy Mississippi, Inc.), Entergy New Orleans, LLC (formerly Entergy New Orleans, Inc.), and Entergy Texas, Inc.

³ La. Pub. Serv. Comm'n v. Entergy Corp., et al., 171 FERC ¶ 61,044 (2020).

Any person desiring to intervene or to protest this filing must file in accordance with Rules 211 and 214 of the Commission's Rules of Practice and Procedure (18 CFR 385.211, 385.214). Protests will be considered by the Commission in determining the appropriate action to be taken but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE, Washington, DC 20426.

In addition to publishing the full text of this document in the Federal Register, The Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

Comment Date: 5:00 p.m. Eastern Time on July 9, 2020.

Dated: June 19, 2020.
Kimberly D. Bose,
Secretary.

[FR Doc. 2020-13718 Filed 6-24-20; 8:45 am]

BILLING CODE 6717-01-P